DEPARTMENT OF HOMELAND SECURITY

Federal Emergency Management Agency

44 CFR Part 67

[Docket No. FEMA-D-7668]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr. CFM, Acting Section Chief, Engineering Management Section, Mitigation Division, 500 C Street, SW., Washington, DC 20472, (202) 646-3151.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location | Range of elevations in feet (NAVD)+
City of Belleview, Marion County, Florida
Unnamed ponding areas | +65
Unnamed ponding areas | +108
* National Geodetic Vertical Datum.
# Depth in feet above ground.
+ North American Vertical Datum.
ADDRESSES
Maps available for inspection at the Belleview City Hall, Public Works Department, 5343 Southeast Abshier Boulevard, Belleview, Florida.
Send comments to The Honorable Tammy Moore, Mayor of the City of Belleview, 5343 Southeast Abshier Boulevard, Belleview, Florida 34420.
City of Dunnellon, Marion County, Florida
Unnamed ponding areas | +32
Unnamed ponding areas | +69
* National Geodetic Vertical Datum.
# Depth in feet above ground.
+ North American Vertical Datum.
ADDRESSES
Maps available for inspection at the Dunnellon City Hall, 20750 River Drive, Dunnellon, Florida.
Send comments to Mr. Edward Ericson, Dunnellon City Manager, 20750 River Drive, Dunnellon, Florida 34431.
Marion County, Florida (Unincorporated Areas)
Unnamed ponding areas (primarily, but not exclusively located west of Interstate 75) | +6
Unnamed ponding areas (primarily, but not exclusively located west of Interstate 75) | +200
* National Geodetic Vertical Datum.
# Depth in feet above ground.
+ North American Vertical Datum.
ADDRESSES
Maps available for inspection at the Marion County Transportation Department, 412 Southeast 25th Avenue, Ocala, Florida. For more information, please contact the Marion County Stormwater Division at (352) 671-8686.
Send comments to Mr. Patrick G. Howard, Marion County Administrator, 601 Southeast 25th Avenue, Ocala, Florida 34471.
City of Ocala, Marion County, Florida
Unnamed ponding areas | +48
Unnamed ponding areas | +133
* National Geodetic Vertical Datum.
# Depth in feet above ground.
+ North American Vertical Datum.
ADDRESSES
Maps available for inspection at the City of Ocala Engineering Department, 405 Southeast Osceola Avenue, Ocala, Florida.
Send comments to The Honorable Randy Ewers, Mayor of the City of Ocala, P.O. Box 1270, Ocala, Florida 34478-1270.
Special Considerations:
The new and revised flood elevations affect over 4,000 unnamed ponding areas in Marion County and its incorporated areas. This proposed rule lists the range of new and/or revised elevations affecting the communities listed above. Because the specific changes are too numerous to list, residents and lessees of property in Marion County and its incorporated areas are strongly encouraged to review the FEMA Flood Insurance Rate Maps at the community offices or online at http://www.marioncountyfl.org.

Source of flooding | Location of referenced elevation | #Depth in feet above ground. *Elevation in feet (NGVD) +Elevation in feet (NAVD): Effective | #Depth in feet above ground. *Elevation in feet (NGVD) +Elevation in feet (NAVD): Modified | Communities affected
Bertie County, North Carolina and Incorporated Areas
Brittons Creek | At the confluence with Roanoke River | None | +31 | Unincorporated Areas of Bertie County.
| Approximately 900 feet upstream of Black Jack Road (State Route 1135) | None | +48
Brittons Creek Tributary 1 | At the confluence with Brittons Creek | None | +38 | Unincorporated Areas of Bertie County.
| Approximately 1,900 feet upstream of the confluence with Brittons Creek | None | +53
Cashie River | Approximately 4.0 miles upstream of NC-45 | +8 | +7 | Unincorporated Areas of Bertie County, Town of Roxobel.
| Approximately 1,150 feet upstream of the confluence of Cashie River Tributary 5 | None | +79
Cashie River Tributary 1 | Approximately 150 feet upstream of Peterson Lane | None | +9 | Unincorporated Areas of Bertie County, Town of Windsor.
| Approximately 2.4 miles upstream of the confluence of Cashie River Tributary 1A | None | +34
Cashie River Tributary 1A | At the confluence with Cashie River Tributary 1 | None | +9 | Unincorporated Areas of Bertie County, Town of Windsor.
| Approximately 300 feet upstream of Clark Avenue | None | +19
Cashie River Tributary 3 | At the confluence with Cashie River | None | +64 | Unincorporated Areas of Bertie County.
| Approximately 0.4 mile upstream of the confluence with Cashie River | None | +68
Cashie River Tributary 5 | At the confluence with Cashie River | None | +76 | Unincorporated Areas of Bertie County.
| Approximately 150 feet downstream of Harrells Siding Road (State Route 1208) | None | +80
Cashie Swamp | At the confluence with Cashie River | None | +58 | Unincorporated Areas of Bertie County.
| Approximately 1,500 feet upstream of Floyd Hall Road (State Route 437) | None | +82
Cashie Swamp Tributary 1 | At the confluence with Cashie Swamp | None | +61 | Unincorporated Areas of Bertie County.
| Approximately 0.5 mile upstream of the confluence of Cashie Swamp Tributary 1A | None | +74
Cashie Swamp Tributary 1A | At the confluence with Cashie Swamp Tributary 1 | None | +66 | Unincorporated Areas of Bertie County.
| Approximately 0.5 mile upstream of Piney Wood Road | None | +74
Cashie Swamp Tributary 2 | At the confluence with Cashie Swamp | None | +67 | Unincorporated Areas of Bertie County, Town of Kelford.
| Approximately 400 feet upstream of Railroad Street | None | +86
Cashie Swamp Tributary 3 | At the confluence with Cashie Swamp | None | +79 | Unincorporated Areas of Bertie County, Town of Kelford.
| Approximately 1,950 feet upstream of North Main Street (State Highway 308) | None | +89
Cashoke Creek | Approximately 50 feet upstream of State Highway 45 | None | +7 | Unincorporated Areas of Bertie County.
| Approximately 1,000 feet downstream of Sans Souci Road (State Route 1500) | None | +22
Cashoke Creek Tributary 1 | At the confluence with Cashoke Creek | None | +7 | Unincorporated Areas of Bertie County.
| Approximately 550 feet upstream of Cooper Hill Road (State Highway 308) | None | +33
Chiska Creek | At the confluence with Cashie River | +14 | +16 | Unincorporated Areas of Bertie County.
| Approximately 1.2 miles upstream of Governors Road (State Highway 308) | None | +50
Coniott Creek | At the confluence with Roanoke River | None | +20 | Unincorporated Areas of Bertie County.
| Approximately 0.7 mile upstream of Indian Woods Road (State Route 1108) | None | +40
Connarista Swamp | At the confluence with Cashie River | None | +31 | Unincorporated Areas of Bertie County.
| Approximately 0.6 mile upstream of Connarista Road (State Route 1200) | None | +63
Cucklemaker Creek | At the confluence with Hoggards Mill Creek | None | +27 | Unincorporated Areas of Bertie County.
| Approximately 1.8 miles upstream of Bull Hill Road (State Route 1301) | None | +37
Flag Run Gut | At the confluence with Roanoke River | None | +30 | Unincorporated Areas of Bertie County.
| Approximately 450 feet downstream of Governors Road | None | +73
Flat Swamp | At the confluence with Hoggards Mill Creek | None | +27 | Unincorporated Areas of Bertie County.
| Approximately 0.5 mile upstream of Browns School Road (State Route 1348) | None | +55
Flat Swamp Tributary 1 | At the confluence with Flat Swamp | None | +30 | Unincorporated Areas of Bertie County.
| Approximately 50 feet downstream of Bakertown Road | None | +34
Flat Swamp Tributary 2 | At the confluence with Flat Swamp | None | +31 | Unincorporated Areas of Bertie County.
| Approximately 1.4 miles upstream of Jessie Mack Road (State Route 1351) | None | +55
Flat Swamp Tributary 3 | At the confluence with Flat Swamp | None | +37 | Unincorporated Areas of Bertie County.
| Approximately 1,500 feet upstream of Doc Baker Road (State Route 1350) | None | +52
Flat Swamp Tributary 4 | At the confluence with Flat Swamp | None | +43 | Unincorporated Areas of Bertie County.
| Approximately 0.5 mile upstream of Browns School Road (State Route 1348) | None | +53
Hoggards Mill Creek | At the confluence with Cashie River | +11 | +13 | Unincorporated Areas of Bertie County.
| At the confluences of Cucklemaker Creek and Flat Swamp | None | +27
Indian Creek | At the confluence with Roanoke River | None | +25 | Unincorporated Areas of Bertie County, Town of Lewiston Woodville.
| At the confluence of Jacks Branch | None | +40 |
Indian Creek Tributary 1 | At the confluence with Indian Creek | None | +40 | Unincorporated Areas of Bertie County.
| Approximately 1.5 miles upstream of the confluence with Indian Creek | None | +44
Jacks Branch | At the confluence with Indian Creek | None | +40 | Unincorporated Areas of Bertie County, Town of Lewiston Woodville.
| Approximately 0.5 mile downstream of Jack Branch Road (State Route 1119) | None | +53
Mill Swamp | At the confluence with Roquist Creek | None | +9 | Unincorporated Areas of Bertie County.
| Approximately 0.9 mile upstream of George Leggett Road (State Route 1523) | None | +20
Redbud Branch | At the confluence with Whiteoak Swamp | None | +35 | Unincorporated Areas of Bertie County, Town of Askewville.
| Approximately 600 feet upstream of North Askewville Railroad Street | None | +58
Roanoke River | Approximately 4.0 miles upstream of NC-45 | +8 | +7 | Unincorporated Areas of Bertie County.
| Approximately 3.5 miles upstream of Burke/Northampton County boundary | +36 | +37
Roanoke River Tributary 1 | At the confluence with Roanoke River | None | +9 | Unincorporated Areas of Bertie County.
| Approximately 0.4 mile upstream of Morning Road (State Route 1519) | None | +21
Roanoke River Tributary 2 | At the confluence with Roanoke River | None | +13 | Unincorporated Areas of Bertie County.
| Approximately 150 feet downstream of Cedar Landing Road (State Route 1521) | None | +22
Roanoke River Tributary 3 | At the confluence with Roanoke River | None | +13 | Unincorporated Areas of Bertie County.
| Approximately 1.5 miles upstream of Gillam Road (State Route 1542) | None | +16
Roquist Creek | At the confluence with Cashie River | None | +8 | Unincorporated Areas of Bertie County.
| Approximately 1,000 feet upstream of the confluence of Roquist Creek Tributary 5 | None | +39
Roquist Creek Tributary 1 | At the confluence with Roquist Creek | None | +27 | Unincorporated Areas of Bertie County.
| Approximately 0.7 mile upstream of the confluence with Roquist Creek | None | +33
Roquist Creek Tributary 2 | At the confluence with Roquist Creek | None | +29 | Unincorporated Areas of Bertie County.
| Approximately 0.9 mile upstream of the confluence with Roquist Creek | None | +35
Roquist Creek Tributary 3 | At the confluence with Roquist Creek | None | +29 | Unincorporated Areas of Bertie County.
| Approximately 1.6 miles upstream of the confluence with Roquist Creek | None | +36
Roquist Tributary 4 | At the confluence with Roquist Creek | None | +37 | Unincorporated Areas of Bertie County.
| Approximately 1.0 mile upstream of the confluence with Roquist Creek | None | +38 |
Roquist Tributary 5 | At the confluence with Roquist Creek | None | +39 | Unincorporated Areas of Bertie County.
| Approximately 0.9 mile upstream of Old King Farm Road (State Route 1116) | None | +48 |
Roquist Tributary 5A | At the confluence with Roquist Creek Tributary 5 | None | +41 | Unincorporated Areas of Bertie County.
| Approximately 600 feet downstream of Governors Road (State Highway 308) | None | +47 |
Sandy Run | At the confluence with Roanoke River | +36 | +34 | Unincorporated Areas of Bertie County.
| Approximately 0.7 mile upstream of Governors Road (State Highway 308) | None | +60 |
Sandy Run Tributary 2 | At the confluence with Sandy Run | None | +37 | Unincorporated Areas of Bertie County.
| Approximately 0.5 mile upstream of the confluence with Sandy Run | None | +58 |
Sandy Run Tributary 4 | At the confluence with Sandy Run | None | +39 | Unincorporated Areas of Bertie County.
| Approximately 0.5 mile upstream of the confluence with Sandy Run | None | +56 |
Sandy Run Tributary 5 | At the confluence with Sandy Run | None | +43 | Unincorporated Areas of Bertie County.
| Approximately 0.7 mile upstream of the confluence with Sandy Run | None | +56 |
Sandy Run Tributary 6 | At the confluence with Sandy Run | None | +46 | Unincorporated Areas of Bertie County.
| Approximately 1,850 feet upstream of Byrd Club Road | None | +58 |
Sutton Creek | At the confluence with Wading Place Creek | None | +8 | Unincorporated Areas of Bertie County.
| Approximately 1.2 miles upstream of State Highway 308 | None | +17 |
Wading Place Creek | At the confluence with Cashie River | None | +8 | Unincorporated Areas of Bertie County.
| Approximately 2.7 miles upstream of the confluence of Wading Place Creek Tributary 1 | None | +24 |
Wading Place Creek Tributary 1 | At the confluence with Wading Place Creek | None | +10 | Unincorporated Areas of Bertie County.
| Approximately 1.8 miles upstream of the confluence with Wading Place Creek | None | +31 |
Wahtom Swamp | At the confluence with Cashie River | None | +48 | Unincorporated Areas of Bertie County, Town of Askewville.
| Approximately 0.4 mile upstream of Harrells Siding Road (State Route 1208) | None | +69 |
Whiteoak Swamp | At the confluence with Cashie River | None | +24 | Unincorporated Areas of Bertie County, Town of Askewville.
| Approximately 500 feet upstream of Charles Taylor Road (State Route 1221) | None | +57 |
Whiteoak Swamp Tributary 1 | At the confluence with Whiteoak Swamp | None | +26 | Unincorporated Areas of Bertie County, Town of Askewville.
| Approximately 2,000 feet upstream of Pocosin Road (State Route 1343) | None | +33 |
* National Geodetic Vertical Datum.
# Depth in feet above ground.
+ North American Vertical Datum.
ADDRESSES
Unincorporated Areas of Bertie County
Maps available for inspection at the Bertie County Building Inspection Department, 106 Dundee Street, Windsor, North Carolina.
Send comments to Mr. Zee Lamb, Bertie County Manager, P.O. Box 530, Windsor, North Carolina 27983.
Town of Askewville
Maps available for inspection at the Bertie County Building Inspection Department, 106 Dundee Street, Windsor, North Carolina.
Send comments to The Honorable Meredith White, Mayor of the Town of Askewville, 113 West Askewville Street, Windsor, North Carolina 27983.
Town of Kelford
Maps available for inspection at the Bertie County Building Inspection Department, 106 Dundee Street, Windsor, North Carolina.
Send comments to The Honorable Wade Tim Emory, Mayor of the Town of Kelford, P.O. Box 99, Kelford, North Carolina 27847.
Town of Lewiston Woodville
Maps available for inspection at the Lewiston Woodville Town Hall, 103 West Church Street, Lewiston Woodville, North Carolina.
Send comments to The Honorable Carl Lee, Mayor of the Town of Lewiston Woodville, P.O. Box 216, Lewiston Woodville, North Carolina 27849.
Town of Roxobel
Maps available for inspection at the Roxobel Town Hall, 204 South Main Street, Roxobel, North Carolina.
Send comments to The Honorable Gary Johnson, Mayor of the Town of Roxobel, P.O. Box 37, Roxobel, North Carolina 27872.
Town of Windsor
Maps available for inspection at the Windsor Town Hall, 128 South King Street, Windsor, North Carolina.
Send comments to The Honorable Robert Spivey, Mayor of the Town of Windsor, P.O. Box 508, Windsor, North Carolina 27938.
Catawba County, North Carolina and Incorporated Areas
Bakers Creek Tributary | Approximately 400 feet upstream of the confluence with Bakers Creek | None | +891 | Unincorporated Areas of Catawba County.
| Approximately 1.4 miles upstream of Swinging Bridge Road | None | +980 |
Bakers Creek Tributary 1 | Approximately 300 feet upstream of the confluence with Bakers Creek | None | +891 | Unincorporated Areas of Catawba County.
| Approximately 0.7 mile upstream of Stratford Drive | None | +1,040 |
Balls Creek | Approximately 600 feet downstream of Kale Road (State Route 1832) | None | +762 | Unincorporated Areas of Catawba County.
| Approximately 970 feet upstream of Little Mountain Road | None | +1,034 |
Barger Branch | At the confluence with Henry Fork | +860 | +861 | Unincorporated Areas of Catawba County, City of Hickory, Town of Brookford.
| Approximately 200 feet upstream of 8th Avenue Southeast | None | +1,064 |
Barger Branch Tributary 1 | At the confluence with Barger Branch | +988 | +987 | City of Hickory.
| Approximately 800 feet upstream of 8th Avenue Southeast | None | +1,083 |
Barger Branch Tributary 2 | At the confluence with Barger Branch Tributary 1 | +995 | +991 | City of Hickory.
| Approximately 1,040 feet upstream of the confluence with Barger Branch Tributary 1 | None | +1,033 |
Barger Branch Tributary 3 | At the confluence with Barger Branch | +1,010 | +1,005 | City of Hickory.
| Approximately 130 feet upstream of 8th Avenue Southeast | +1,083 | +1,082 |  | Betts Branch | At the confluence with Clarks Creek | +808 | +812 | Unincorporated Areas of Catawba County.
| Approximately 1,900 feet upstream of the confluence with Clarks Creek | +811 | +812 |
Bills Branch | At the confluence with Clarks Creek | +810 | +813 | Unincorporated Areas of Catawba County, City of Newton.
| Approximately 830 feet upstream of U.S. 321 South | None | +844 |
Camp Creek | Approximately 0.5 mile upstream of the confluence with Jacob Fork | +914 | +915 | Unincorporated Areas of Catawba County.
| At the Burke/Catawba County boundary | None | +1,020 |
Camp Creek | Approximately 0.4 mile above the confluence of Balls Creek | None | +762 | Unincorporated Areas of Catawba County, City of Hickory.
| At the Burke/Caldlwell/Catawba County boundary | None | +936 |
Catawba River | Approximately 0.4 mile above the confluence of Balls Creek | None | +762 | Unincorporated Areas of Catawba County, City of Hickory.
| At the Burke/Caldwell/Catawba County boundary | None | +936 |
Catawba River Tributary 1 | At the confluence with the Catwaba River | None | +936 | Unincorporated Areas of Catawba County, City of Hickory.
| Approximately 1,100 feet upstream of 31st Avenue Northwest | None | +1,026 |
Clarks Creek | Approximately 850 feet downstream of U.S. 321 | None | +790 | Unincorporated Areas of Catawba County, City of Hickory, City of Newton, Town of Maiden.
| Approximately 2.5 miles upstream of I-40 | None | +1,049 |
Cline Creek | At the confluence with Clark Creek | +861 | +864 | Unincorporated Areas of Catawba County, City of Conover, City of Newton.
| Approximately 150 feet downstream of I-40 | None | +908 |
Cline Creek North | At the confluence with Lyle Creek | +870 | +869 | Unincorporated Areas of Catawba County.
| Approximately 2.0 miles upstream of the confluence with Cline Creek North Tributary 1 | None | +1,047 |
Cline Creek North Tributary 1 | At the confluence with Cline Creek North | +897 | +896 | Unincorporated Areas of Catawba County.
| Approximately 0.5 mile upstream of Rifle Range Road | None | +1,105 |
Cline Creek Tributary 1 | At the confluence with Cline Creek | None | +886 | City of Conover.
| Approximately 450 feet upstream of I-40 | None | +903 |
Cline Creek Tributary 2 | At the confluence with Cline Creek | None | +898 | City of Conover.
| Approximately 1,300 feet upstream of I-40 | None | +911 |
Conover Creek | At the confluence with Lyle Creek | +870 | +868 | Unincorporated Areas of Catawba County, City of Conover.
| Approximately 30 feet upstream of 5th Street Place Northeast | +952 | +953 |
Cow Branch | At the confluence with Pott Creek | None | +861 | Unincorporated Areas of Catawba County.
| Approximately 0.8 mile upstream of Grace Church Road (State Route 2030) | None | +910 |
Cripple Creek | At the confluence with Frye Creek and Horseford Creek | +993 | +995 | City of Hickory.
| Approximately 1,070 feet upstream of 4th Street Drive Northwest | None | −1,067 |
Cripple Creek Tributary 1 | At the confluence with Cripple Creek | +1,030 | +1,029 | City of Hickory.
| Approximately 1,900 feet upstream of the confluence with Cripple Creek | None | +1,055 |
Douglas Creek | At the confluence with Jacob Fork | None | +1,011 | Unincorporated Areas of Catawba County.
| Approximately 200 feet upstream of the Burke/Catawba County boundary | None | +1,048 |
Falling Creek | At the confluence with Lake Hickory | +939 | +936 | Unincorporated Areas of Catawba County, City of Hickory.
| Approximately 50 feet downstream of 14th Avenue Northeast | None | +1,093 |
Falling Creek Tributary 1 | Approximately 400 feet upstream of the confluence with Falling Creek | +1,014 | +1,015 | City of Hickory.
| Approximately 275 feet upstream of 12th Avenue Northeast | None | +1,088 |
Falling Creek Tributary 2 | At the confluence with Falling Creek | +1,058 | +1,052 | City of Hickory.
| Approximately 380 feet upstream of 12th Avenue Northeast | None | +1,095 |
Fitz Creek | At the confluence with Cripple Creek | +1,011 | +1,013 | City of Hickory.
| Approximately 30 feet upstream of the confluence with Cripple Creek | +1,012 | +1,013 |
Frye Creek | At the confluence with Horseford Creek and Cripple Creek | +993 | +995 | City of Hickory, Town of Long View.
| Approximately 50 feet downstream of 34th Street Northwest | None | +1,119 |
Geitner Branch | At the confluence with Henry Fork | +887 | +890 | City of Hickory.
| Approximately 1,900 feet upstream of 7th Avenue Southwest | None | +1,080 |
Geitner Branch Tributary 1 | At the confluence with Geitner Branch | +1,011 | +1,019 | City of Hickory.
| Approximately 1,250 feet upstream of the confluence with Geitner Branch | None | +1,043 |
Geitner Branch Tributary 2 | At the confluence with Geitner Branch | +984 | +983 | City of Hickory.
| Approximately 1,700 feet upstream of 7th Avenue Southwest | +1,072 | +1,074 |
Haas Creek | At the confluence with Pott Creek | None | +814 | Unincorporated Areas of Catawba County.
| Approximately 0.3 mile upstream of Bill and Beulah Lane | None | +910 |
Henry Fork | Approximately 1,250 feet upstream of the confluence with Jacob Fork and South Fork Catawba River | +822 | +821 | Unincorporated Areas of Catawba County, City of Hickory, City of Newton, Town of Brookford.
| At the Catawba/Burke County boundary | +927 | +930 |
Henry Fork Tributary 1 | At the confluence with Henry Fork | +849 | +846 | Unincorporated Areas of Catawba County, City of Hickory.
| Approximately 200 feet downstream of U.S. Route 70 | +998 | +999 |
Henry Fork Tributary 2 | At the confluence with Henry Fork | +886 | +889 | Town of Brookford, City of Hickory.
| Approximately 1,830 feet upstream of Brookford Boulevard | +924 | +921 |
Henry Fork Tributary 3 | At the confluence with Henry Fork | +822 | +821 | Unincorporated Areas of Catawba County.
| Approximately 0.4 mile upstream of Robinson Road | None | +855 |
Herman Branch Creek | At the confluence with Lyle Creek | +914 | +913 | Unincorporated Areas of Catawba County, City of Conover.
| Approximately 175 feet upstream of the confluence with Lyle Creek | +915 | +914 |
Hildenbran Creek | At the confluence with Clarks Creek | +837 | +838 | City of Newton.
| Approximately 150 feet upstream of A. C. Little Drive | +952 | +953 |
Holdsclaw Creek | At the upstream side of Railroad | None | +798 | Unincorporated Areas of Catawba County.
| Approximately 1,500 feet upstream of the confluence of Holdsclaw Creek Tributary 1 | None | +798 |
Holdsclaw Creek Tributary 1 | At the confluence with Holdsclaw Creek | None | +798 | Unincorporated Areas of Catawba County.
| Approximately 1,450 feet upstream of the confluence with Holdsclaw Creek | None | +803 |
Holly Branch | Approximately 220 feet downstream of the confluence of Holly Branch Tributary 1 and Shady Branch | None | +821 | Unincorporated Areas of Catawba County, Town of Maiden.
| At the confluence of Holly Branch Tributary 1 and Shady Branch | None | +824 |
Holly Branch Tributary 1 | At the confluence with Holly Branch | None | +824 | Unincorporated Areas of Catawba County, Town of Maiden.
| Approximately 200 feet upstream of South Main Avenue | None | +870 |
Hop Creek | At the confluence with Jacob Fork | +834 | +835 | Unincorporated Areas of Catawba County.
| Approximately 2.7 miles upstream of the confluence with Jacob Fork | None | +917 |
Horseford Creek | At the confluence with the Catawba River | None | +936 | City of Hickory.
| At the confluence with Frye Creek and Cripple Creek | +993 | +995 |
Howards Creek | At the Catawba/Lincoln County boundary | None | +972 | Unincorporated Areas of Catawba County.
| Approximately 500 feet upstream of the Catawba/Lincoln County boundary | None | +977 |
Indian Creek | At the Catawba/Lincoln County boundary | None | +1,011 | Unincorporated Areas of Catawba County.
| Approximately 550 feet upstream of the Catawba/Lincoln County boundary | None | +1,014 |
Jacob Fork | Approximately 175 feet upstream of Providence Church Road (State Route 1116) | None | +915 | Unincorporated Areas of Catawba County.
| At the Catawba/Burke County boundary | None | +1,057 |
Jacob Fork Tributary 1 | At the confluence with Jacob Fork | None | +1,022 | Unincorporated Areas of Catawba County.
| Approximately 1.3 miles upstream of Cooksville Road | None | +1,078 |
Lippard Creek | At the Lincoln/Catawba County boundary | None | +869 | Unincorporated Areas of Catawba County.
| Approximately 1,870 feet upstream of the Lincoln/Catawba County boundary | None | +876 |
Long Creek | At the confluence with McLin Creek | +861 | +860 | City of Conover, City of Claremont.
| Approximately 1,400 feet upstream of Railroad | None | +988 |
Long Shoal Creek | Approximately 0.5 mile downstream of Sulphur Springs Road (State Route 1529) | None | +935 | Unincorporated Areas of Catawba County, City of Hickory.
| Approximately 0.4 mile upstream of Pinecrest Drive Northeast | None | +1,037 |
Long View Creek | At the confluence with Henry Fork | +887 | +891 | Unincorporated Areas of Catawba County, City of Hickory, Town of Long View.
| Approximately 1,500 feet upstream of U.S. 70 Southwest | +1,085 | +1,081
Long View Creek Tributary 1 | At the confluence with Long View Creek | +987 | +990 | City of Hickory.
| Approximately 80 feet downstream of U.S. 70 | +1,063 | +1,061
Long View Creek Tributary 2 | Approximately 140 feet upstream of the confluence with Long View Creek | +1,039 | +1,038 | City of Hickory, Town of Long View.
| Approximately 1,460 feet upstream of the confluence with Long View Creek | +1,057 | +1,053
Lyle Creek | At the confluence with the Catawba River | +772 | +773 | Unincorporated Areas of Catawba County, City of Hickory, Town of Catawba.
| Approximately 550 feet upstream of 18th Avenue Northeast | None | +1,116
Lyle Creek Tributary | At the Shock Road (State Route 1711) | +832 | +831 | Unincorporated Areas of Catawba County.
| Approximately 2,000 feet upstream of Community Road | None | +892
Lyle Creek Tributary 1 | Approximately 1,600 feet upstream of the confluence with Lyle Creek | +819 | +820 | Unincorporated Areas of Catawba County.
| Approximately 1.0 mile upstream of Crossing Creek Drive | None | +931
Maiden Creek | Approximately 1.3 miles upstream of Providence Mill Road | None | +864 | Unincorporated Areas of Catawba County.
| Approximately 80 feet downstream of North Olivers Cross Road | None | +905
McLin Creek | Approximately 500 feet upstream of East 20th Street | None | +940 | City of Conover.
| Approximately 0.4 mile upstream of the confluence of Tributary of McLin Creek | None | +970
McLin Creek Tributary 1 | Approximately 750 feet upstream of the confluence with McLin Creek | None | +857 | Unincorporated Areas of Catawba County, City of Claremont
| Approximately 1,250 feet upstream of Frazier Drive | None | +936
Miller Branch | At the downstream side of 12th Avenue Southeast | +897 | +894 | Unincorporated Areas of Catawba County, City of Hickory.
| Approximately 1.9 miles upstream of the confluence with Clarks Creek | None | +982
Mountain Creek | At the upstream side of Slanting Bridge Road | None | +760 | Unincorporated Areas of Catawba County.
| Approximately 1.6 miles upstream of the confluence of Mountain Creek Tributary 3 | None | +776
Mountain Creek Tributary 2 | At the confluence with Mountain Creek | None | +760 | Unincorporated Areas of Catawba County.
| Approximately 1.6 miles upstream of the confluence with Mountain Creek | None | +803
Mountain Creek Tributary 2A | At the confluence with Mountain Creek Tributary 2 | None | +760 | Unincorporated Areas of Catawba County.
| Approximately 1.4 miles upstream of the confluence with Mountain Creek Tributary 2 | None | +763
Mountain Creek Tributary 3 | At the confluence with Mountain Creek | None | +760 | Unincorporated Areas of Catawba County.
| Approximately 1.0 mile upstream of the confluence with Mountain Creek | None | +778
Mountain Creek Tributary 3A | At the confluence with Mountain Creek Tributary 3 | None | +767 | Unincorporated Areas of Catawba County.
| Approximately 0.5 mile upstream of the confluence with Mountain Creek Tributary 3 | None | +804
Muddy Creek | Approximately 1,900 feet upstream of the confluence with Henry Fork | None | +835 | Unincorporated Areas of Catawba County.
| At the confluence of Muddy Creek Tributaries 2 and 3 | None | +838
Muddy Creek Tributary 1 | At the confluence with Muddy Creek | None | +837 | Unincorporated Areas of Catawba County.
| Approximately 0.7 mile upstream of Robinwood Road | None | +873
Muddy Creek Tributary 2 | At the confluence with Muddy Creek | None | +838 | Unincorporated Areas of Catawba County.
| Approximately 0.6 mile upstream of Robinwood Road | None | +863
Muddy Creek Tributary 3 | At the confluence with Muddy Creek | None | +838 | Unincorporated Areas of Catawba County, City of Hickory.
| Approximately 1.3 miles upstream of the confluence with Muddy Creek | None | +872
Mull Creek | Approximately 1,000 feet upstream of the confluence with Lyle Creek | +820 | +819 | Unincorporated Areas of Catawba County, City of Conover.
| Approximately 500 feet upstream of 9th Avenue Northeast | None | +1,002
Mundy Creek | At the confluence with Reed Creek | None | +760 | Unincorporated Areas of Catawba County.
| Approximately 500 feet upstream of Lineberger Road | None | +776
Mundy Creek Tributary 1 | At the confluence with Mundy Creek | None | +760 | Unincorporated Areas of Catawba County.
| Approximately 1,400 feet upstream of Grassy Creek Road | None | +781
Naked Creek | Approximately 2,000 feet downstream of the St. Peters Church Road (State Route 1453) | None | +936 | Unincorporated Areas of Catawba County.
| Approximately 0.5 mile upstream of Timber Ridge Road | +1,009 | +1,015
Pinch Gut Creek | Approximately 120 feet upstream of St. James Church Road | None | +851 | Unincorporated Areas of Catawba County, Town of Maiden.
| Approximately 0.9 mile upstream of St. James Church Road | None | +883
Pinch Gut Creek Tributary 1 | At the confluence with Pinch Gut Creek | None | +852 | Unincorporated Areas of Catawba County.
| Approximately 0.5 mile upstream of the confluence with Pinch Gut Creek | None | +886
Pott Creek | Approximately 1,200 feet downstream of the confluence of Rhodes Mill Creek | None | +801 | Unincorporated Areas of Catawba County.
| Approximately 1.9 miles upstream of Plateau Road (State Route 2036) | None | +928
Propst Creek | Approximately 0.4 mile downstream of Snipe Road (State Route 1492) | +989 | +988 | Unincorporated Areas of Catawba County, City of Hickory.
| Approximately 75 feet downstream of Snipe Road (State Route 1492) | +1,006 | +1,005
Reed Creek | At the confluence with Mountain Creek | None | +760 | Unincorporated Areas of Catawba County.
| Approximately 1.1 miles upstream of Mount Pleasant Road | None | +790
Rhodes Mill Creek | At the confluence with Pott Creek | None | +802 | Unincorporated Areas of Catawba County.
| Approximately 1,100 feet upstream of Leatherman Road (State Route 2025) | None | +855
Rhodes Mill Creek Tributary 1 | At the confluence with Rhodes Mill Creek | None | +815 | Unincorporated Areas of Catawba County.
| Approximately 0.4 mile upstream of the confluence with Rhodes Mill Creek | None | +825
Shady Branch | At the confluence with Holly Branch and Holly Branch Tributary 1 | None | +824 | Unincorporated Areas of Catawba County, Town of Maiden.
| Approximately 500 feet upstream of South 11th Avenue | None | +959
Shady Branch Tributary 1 | At the confluence with Sandy Branch | None | +872 | Unincorporated Areas of Catawba County, Town of Maiden.
| Approximately 1,800 feet upstream of South 8th Avenue | None | +927
Smyre Creek | At the confluence with Clarks Creek | None | +831 | Unincorporated Areas of Catawba County, City of Newton.
| Approximately 50 feet downstream of NC-16 | +833 | +875
Smyre Creek Tributary 1 | At the confluence with Smyre Creek | None | +868 | Unincorporated Areas of Catawba County, City of Newton.
| Approximately 1,500 feet upstream of the confluence with Smyre Creek | None | +877
Snow Creek | At the confluence with the Catawba River | None | +935 | Unincorporated Areas of Catawba County, City of Hickory.
| Approximately 1,040 feet upstream of 15th Avenue Northeast | None | +1,097
Snow Hill Branch | At the downstream side of State Route 16/East D Street | +870 | +868 | City of Newton.
| Approximately 1,100 feet upstream of East 11th Street | None | +944
South Fork Catawba River | At the Catawba/Lincoln County boundary | None | +793 | Unincorporated Areas of Catawba County, City of Newton.
| Approximately 125 feet downstream of NC-10 | None | +816
South Fork Catawba River Tributary 6 | At the confluence with South Fork Catawba River | None | +794 | Unincorporated Areas of Catawba County.
| Approximately 530 feet upstream of Herter Road (State Route 2022) | None | +800
South Fork Catawba River Tributary 7 | At the confluence with South Fork Catawba River | None | +800 | Unincorporated Areas of Catawba County.
| Approximately 0.9 mile upstream of the confluence with South Fork Catawba River | None | +811
South Fork Catawba River Tributary 8 | At the confluence with South Fork Catawba River | None | +802 | Unincorporated Areas of Catawba County.
| Approximately 0.7 mile upstream of Wilfong Road | None | +829
South Fork Catawba Tributary 9 | At the confluence with South Fork Catawba River | None | +806 | Unincorporated Areas of Catawba County.
| Approximately 1.1 miles upstream of US-321 | None | +822
South Fork Catawba Tributary 9A | At the confluence with South Fork Catawba River Tributary 9 | None | +806 | Unincorporated Areas of Catawba County.
| Approximately 1,500 feet upstream of the confluence with South Fork Catawba River Tributary 9 | None | +806
Terrapin Creek | Approximately 500 feet upstream of Mollys Backbone Road | +761 | +762 | Unincorporated Areas of Catawba County.
| Approximately 1.2 miles upstream of the confluence of Terrapin Creek Tributary 1 | None | +792
Terrapin Creek Tributary 1 | At the confluence with Terrapin Creek | +761 | +766 | Unincorporated Areas of Catawba County.
| Approximately 1.0 mile upstream of the confluence with Terrapin Creek | None | +790
Town Branch | At the confluence with the Catawba River | +772 | +773 | Unincorporated Areas of Catawba County, Town of Catawba.
| Approximately 0.5 mile upstream of 2nd Street Southwest | None | +894
Town Creek | Approximately 1,400 feet upstream of St. James Church Road | None | +871 | Unincorporated Areas of Catawba County, City of Newton.
| Approximately 0.8 mile upstream of State Route 10 | None | +943
Tributary to Lyle Creek Tributary | At the confluence with Lyle Creek Tributary | None | +875 | Unincorporated Areas of Catawba County.
| Approximately 0.7 mile upstream of the confluence with Lyle Creek Tributary | None | +921
* National Geodetic Vertical Datum.
# Depth in feet above ground.
+ North American Vertical Datum.
ADDRESSES
Town of Brookford
Maps available for inspection at the Brookford Town Hall, 1700 South Center Street, Brookford, North Carolina.
Send comments to The Honorable Thomas Schronce, Mayor of the Town of Brookford, 1700 South Center Street, Brookford, North Carolina 28602.
Town of Catawba
Maps available for inspection at the Catawba Town Hall, 102 1st Street Northwest, Catawba, North Carolina.
Send comments to The Honorable Thomas Jones, Mayor of the Town of Catawba, P.O. Box 70, Catawba, North Carolina 28609.
City of Claremont
Maps available for inspection at the City of Claremont Planning Department, 3288 East Main Street, Claremont, North Carolina.
Send comments to The Honorable Glenn A. Morrison, Mayor of the City of Claremont, 3288 East Main Street, Claremont, North Carolina 28610.
City of Conover
Maps available for inspection at the Conover City Hall, 101 First Street East, Conover, North Carolina.
Send comments to The Honorable Bruce Eckard, Mayor of the City of Conover, P.O. Box 549, Conover, North Carolina 28613.
City of Hickory
Maps available for inspection at the Hickory City Hall, 76 North Center Street, Hickory, North Carolina. Send comments to The Honorable G. Rudy Wright, Jr., Mayor of the City of Hickory, P.O. Box 398, Hickory, North Carolina 28603.
City of Newton
Maps available for inspection at the City of Newton Planning Department, 401 North Main Avenue, Newton, North Carolina.
Send comments to The Honorable Robert Mullinax, Mayor of the City of Newton, P.O. Box 550, Newton, North Carolina 28658.
Town of Long View
Maps available for inspection at the Long View Town Hall, 2404 1st Avenue Southwest, Hickory, North Carolina.
Send comments to The Honorable Norman Cook, Mayor of the Town of Long View, 2404 1st Avenue Southwest, Hickory, North Carolina 28602.
Town of Maiden
Maps are available for inspection at the Maiden Town Hall, 113 West Main Street, Maiden, North Carolina.
Send comments to The Honorable Robert Smyre, Mayor of the Town of Maiden, P.O. Box 125, Maiden, North Carolina 28650.
Unincorporated Areas of Catawba County
Maps available for inspection at the Catawba County Planning and Zoning Department, 100 A Southwest Boulevard, Newton, North Carolina.
Send comments to Mr. Tom Lundy, Catawba County Manager, P.O. Box 389, Catawba, North Carolina 28658.
McDowell County, North Carolina and Incorporated Areas
Alexander Branch | At the confluence with South Muddy Creek | None | +1,137 | Unincorporated Areas of McDowell County.
| Approximately 0.8 mile upstream of the confluence with South Muddy Creek | None | +1,174
Armstrong Creek | At the confluence with North Fork Catawba River | +1,383 | +1,382 | Unincorporated Areas of McDowell County.
| At the confluence of House Branch | None | +1,959
Bakers Creek | At the confluence with Second Broad River | None | +1,026 | Unincorporated Areas of McDowell County.
| Approximately 1.3 miles upstream of the Railroad | None | +1,153
Beaverdam Branch | At the confluence with Second Broad River | None | +1,270 | Unincorporated Areas of McDowell County.
| Approximately 0.5 mile upstream of State Route 1148 | None | +1,311
Betsy Creek | At the confluence with Tom Creek | None | +1,442 | Unincorporated Areas of McDowell County.
| Approximately 300 feet upstream of State Route 1434 | None | +1,461
Big Camp Creek | At the confluence with North Muddy Creek | None | +1,134 | Unincorporated Areas of McDowell County.
| Approximately 370 feet downstream of Interstate 40 | None | +1,197
Bobs Creek | At the confluence with North Muddy Creek | None | +1,206 | Unincorporated Areas of McDowell County.
| Approximately 1,050 feet upstream of State Route 1796 | None | +1,219
Boney Creek | At the confluence with Cove Creek | None | +1,137 | Unincorporated Areas of McDowell County.
| Approximately 0.5 mile upstream of State Route 1143 | None | +1,170
Bradley Creek | At the confluence with Loom Branch | None | +1,420 | Unincorporated Areas of McDowell County.
| Approximately 850 feet upstream of State Route 1133 | None | +1,488
Brevard Creek | At the confluence with Catawba River | +1,341 | +1,342 | Unincorporated Areas of McDowell County.
| Approximately 1.4 miles upstream of State Route 1241 | None | +1,472
Buck Creek | At the confluence with Catawba River | +1,242 | +1,246 | Unincorporated Areas of McDowell County.
| Approximately 0.5 mile upstream of Sugar Cove Road | None | +1,883
Caleb Branch | At the confluence with North Muddy Creek | None | +1,163 | Unincorporated Areas of McDowell County.
| Approximately 0.6 mile upstream of State Route 1760 | None | +1,224
Camp Creek | At the confluence with Crooked Creek | None | +1,441 | Unincorporated Areas of McDowell County.
| Approximately 0.6 mile upstream of State Route 1131 | None | +1,535
Cane Creek (near Dysartsville) | At the McDowell/Rutherford County boundary | None | +975 | Unincorporated Areas of McDowell County.
| Approximately 0.4 mile upstream of the confluence of Shoal Creek | None | +1,044
Cane Creek (near Greenlee) | Approximately 500 feet upstream of the confluence with Catawba River | +1,291 | +1,292 | Unincorporated Areas of McDowell County.
| Approximately 250 feet upstream of U.S. Highway 70 | None | +1,454
Cane Creek Tributary 1 (near Dysartsville) | At the confluence with Cane Creek (near Dysartsville) | None | +1,037 | Unincorporated Areas of McDowell County.
| Approximately 1,680 feet upstream of the confluence with Cane Creek (near Dysartsville) | None | +1,064
Cane Creek Tributary 1 (near Greenlee) | At the confluence with Cane Creek (near Greenlee) | None | +1,332 | Unincorporated Areas of McDowell County.
| Approximately 1,600 feet upstream of State Route 1230 | None | +1,359
Cane Creek Tributary 2 (near Greenlee) | At the confluence with Cane Creek (near Greenlee) | None | +1,418 | Unincorporated Areas of McDowell County.
| Approximately 0.3 mile upstream of the confluence with Cane Creek (near Greenlee) | None | +1,458
Catawba River | At the Burke/McDowell County boundary | None | +1,206 | Unincorporated Areas of McDowell County, City of Marion, Town of Old Fort.
| Approximately 1.6 miles upstream of the confluence of Left Prong Catawba River | None | +1,832
Catawba River Tributary 3 | At the confluence with Catawba River | +1,266 | +1,269 | Unincorporated Areas of McDowell County.
| Approximately 0.4 mile upstream of the confluence with Catawba River | None | +1,281
Clarks Branch | At the confluence with Little Crooked Creek | None | +1,476 | Unincorporated Areas of McDowell County.
| Approximately 0.4 mile upstream of State Route 1106 | None | +1,504
Clear Creek | At the confluence with Catawba River | +1,263 | +1,267 | Unincorporated Areas of McDowell County.
| Approximately 0.6 mile upstream of the confluence with Catawba River | None | +1,285
Conley Branch | At the confluence with North Fork Catawba River | +1,408 | +1,402 | Unincorporated Areas of McDowell County.
| Approximately 1,850 feet upstream of the confluence with Conley Branch Tributary 1 | None | +1,441
Conley Branch Tributary 1 | At the confluence with Conley Branch | None | +1,419 | Unincorporated Areas of McDowell County.
| Approximately 0.4 mile upstream of the confluence with Conley Branch | None | +1,443
Cove Creek | Approximately 400 feet downstream of McDowell/Rutherford County boundary | None | +1,128 | Unincorporated Areas of McDowell County.
| At the confluences of West Fork Cove Creek and Morgan Creek (near Sugar Hill) | None | +1,196
Cox Creek | At the confluence with Armstrong Creek | +1,422 | +1,418 | Unincorporated Areas of McDowell County.
| Approximately 250 feet upstream of the confluence of Rag Creek | None | +1,528
Crooked Creek | At the confluence with Catawba River | +1,322 | +1,321 | Unincorporated Areas of McDowell County.
| Approximately 620 feet upstream of State Route 1100 | None | +1,845
Curtis Creek | At the confluence with Catawba River | +1,374 | +1,375 | Unincorporated Areas of McDowell County, Town of Old Fort.
| Approximately 1,850 feet upstream of the confluence of Hickory Branch | None | +1,926
Dales Creek | At the confluence with Catawba River/Lake James | None | +1,206 | Unincorporated Areas of McDowell County.
| Approximately 1.0 mile upstream of State Route 1552 | None | +1,386
Frasheur Creek | At the McDowell/Rutherford County boundary | None | +1,152 | Unincorporated Areas of McDowell County.
| Approximately 0.7 mile upstream of State Route 1140 | None | +1,223
Glades Creek | At the confluence with Catawba River | +1,298 | +1,300 | Unincorporated Areas of McDowell County.
| Approximately 400 feet upstream of State Route 1161 | None | +1,450
Goose Creek | At the confluence with North Muddy Creek | None | +1,227 | Unincorporated Areas of McDowell County.
| Approximately 0.6 mile upstream of State Route 147 | None | +1,306
Greasy Creek | Approximately 400 feet downstream of County boundary | None | +1,148 | Unincorporated Areas of McDowell County.
| Approximately 0.5 mile upstream of State Route 1142 | None | +1,198
Harris Creek (near Sugar Hill) | At the confluence with Cove Creek | None | +1,132 | Unincorporated Areas of McDowell County.
| Approximately 1,400 feet upstream of State Route 1140 | None | +1,168
Harris Creek (near Woodlawn) | At the confluence with Tom Creek | None | +1,606 | Unincorporated Areas of McDowell County.
| Approximately 850 feet upstream of the confluence with Tom Creek | None | +1,636
Haw Branch | At the confluence with Crooked Creek | None | +1,379 | Unincorporated Areas of McDowell County.
| Approximately 1,600 feet upstream of State Route 1135 | None | +1,432
Hicks Branch | At the confluence with North Muddy Creek | None | +1,254 | Unincorporated Areas of McDowell County.
| Approximately 1,800 feet upstream of State Route 1168 | None | +1,322
High Shoals Creek | At the confluence with South Muddy Creek | None | +1,218 | Unincorporated Areas of McDowell County.
| Approximately 200 feet upstream of the confluence of Barnes Branch | None | +1,225
Honeycutt Creek | At the confluence with North Fork Catawba River | +1,489 | +1,487 | Unincorporated Areas of McDowell County.
| Approximately 340 feet downstream of the Railroad | None | +1,854
Hoppers Creek | At the confluence with South Muddy Creek | None | +1,118 | Unincorporated Areas of McDowell County.
| Approximately 1.7 miles upstream of State Highway 226 | None | +1,201
Jackson Creek | At the confluence with Lytle Creek | None | +1,492 | Unincorporated Areas of McDowell County.
| Approximately 0.4 mile upstream of the confluence with Lytle Creek | None | +1,534
Jake Creek | At the upstream side of the Railroad | +1,275 | +1,283 | Unincorporated Areas of McDowell County.
| Approximately 0.5 mile upstream of State Route 1247 | None | +1,346
Jarrett Creek | At the confluence with Mill Creek | +1,472 | +1,474 | Unincorporated Areas of McDowell County.
| Approximately 2.6 miles upstream of the confluence with Mill Creek | None | +1,791
Johns Creek | At the confluence with Catawba River | +1,212 | +1,214 | Unincorporated Areas of McDowell County.
| Approximately 1,600 feet upstream of State Route 1501 | None | +1,228
Katy Creek | At the confluence with South Muddy Creek | None | +1,150 | Unincorporated Areas of McDowell County.
| Approximately 1,100 feet upstream of State Route 1798 | None | +1,252
Left Prong Catawba River | At the confluence with Catawba River | +1,524 | +1,527 | Unincorporated Areas of McDowell County.
| Approximately 2.0 miles upstream of the confluence with Catawba River | None | +1,739
Licklog Creek | At the confluence with Buck Creek | None | +1,777 | Unincorporated Areas of McDowell County.
| Approximately 1.3 miles upstream of the confluence with Buck Creek | None | +2,064
Little Buck Creek | At the confluence with Buck Creek/Lake Tahoma | None | +1,407 | Unincorporated Areas of McDowell County.
| Approximately 200 feet downstream of the confluence of Long Branch | None | +1,512
Little Crooked Creek | At the confluence with Crooked Creek | None | +1,450 | Unincorporated Areas of McDowell County.
| Approximately 100 feet downstream of State Route 1106 | None | +1,536
Little Crooked Creek Tributary 1 | At the confluence with Little Crooked Creek | None | +1,461 | Unincorporated Areas of McDowell County.
| Approximately 1,470 feet upstream of the confluence with Little Crooked Creek | None | +1,469
Little Toe River | At the confluence with Crooked Creek | None | +1,388 | Unincorporated Areas of McDowell County.
| Approximately 25 feet upstream of State Route 1240 | None | +1,478
Lonan Branch | At the confluence with Pepper Creek | None | +1,536 | Unincorporated Areas of McDowell County.
| Approximately 1,500 feet upstream of the confluence with Pepper Creek | None | +1,581
Long Branch | At the confluence with Mill Creek | None | +1,816 | Unincorporated Areas of McDowell County.
| Approximately 0.4 mile upstream of the Railroad | None | +1,953
Loom Creek | At the confluence with Crooked Creek | None | +1,415 | Unincorporated Areas of McDowell County.
| Approximately 0.8 mile upstream of the confluence of Bradley Creek | None | +1,488
Lytle Branch | At the confluence with Crooked Creek | None | +1,487 | Unincorporated Areas of McDowell County.
| Approximately 1,100 feet upstream of State Route 1103 | None | +1,525
Mackey Creek | At the confluence with the Catawba River | None | +1,284 | Unincorporated Areas of McDowell County.
| Approximately 2.8 miles upstream of U.S. Highway 70 | None | +1,721
Magazine Branch | At the confluence with Hoppers Creek | None | +1,145 | Unincorporated Areas of McDowell County.
| Approximately 200 feet downstream of State Route 1771 | None | +1,162
Martin Branch | At the confluence with North Fork Catawba River | +1,439 | +1,435 | Unincorporated Areas of McDowell County.
| Approximately 350 feet upstream of State Route 1564 | None | +1,469
Mill Creek | Approximately 200 feet upstream of the confluence with Catawba River | +1,409 | +1,410 | Unincorporated Areas of McDowell County, Town of Old Fort.
| Approximately 300 feet downstream of State Route 1408 | None | +1,874
Mollys Branch | At the confluence with Hoppers Creek | None | +1,129 | Unincorporated Areas of McDowell County.
| Approximately 0.6 mile upstream of State Route 1769 | None | +1,170
Morgan Creek (near Ledbetter Mountain) | At the confluence with Cove Creek | None | +1,173 | Unincorporated Areas of McDowell County.
| Approximately 1,270 feet upstream of the confluence with Cove Creek | None | +1,180
Morgan Creek (near Sugar Hill) | At the confluence with Cove Creek and West Fork Cove Creek | None | +1,196 | Unincorporated Areas of McDowell County.
| Approximately 0.8 mile upstream of the confluence with Cove Creek and West Fork Cove Creek | None | +1,217
Muddy Creek | At the Burke/McDowell County boundary | None | +1,087 | Unincorporated Areas of McDowell County.
| At the confluences of North Muddy Creek and South Muddy Creek | None | +1,089
Newberry Creek | At the confluence with Curtis Creek | None | +1,670 | Unincorporated Areas of McDowell County.
| Approximately 1.3 miles upstream of the confluence with Curtis Creek | None | +1,923
Nicks Creek | At the confluence with Catawba River | +1,239 | +1,240 | Unincorporated Areas of McDowell County, City of Marion.
| Approximately 0.5 mile upstream of State Route 1250 | None | +1,447
North Fork Catawba River | At the confluence with Catawba River/Lake James | None | +1,206 | Unincorporated Areas of McDowell County.
| Approximately 1.9 miles upstream of State Route 1571 | None | +2,506
North Muddy Creek | At the confluence with Muddy Creek and South Muddy Creek | None | +1,089 | Unincorporated Areas of McDowell County.
| Approximately 1.1 miles upstream of the confluence of North Muddy Creek Tributary 2 | None | +1,326
North Muddy Creek Tributary 2 | At the confluence with North Muddy Creek | None | +1,297 | Unincorporated Areas of McDowell County.
| Approximately 1.0 mile upstream of State Route 1168 | None | +1,327
North Muddy Creek Tributary No. 1 | At the confluence with North Muddy Creek | None | +1,094 | Unincorporated Areas of McDowell County.
| Approximately 1,000 feet upstream of State Route 1763 | None | +1,132
Old Catawba River | At the confluence of Shadrick Creek | None | +1,091 | Unincorporated Areas of McDowell County.
| Approximately 200 feet upstream of the confluence of Shadrick Creek | None | +1,091
Patten Branch | At the confluence with South Muddy Creek | None | +1,101 | Unincorporated Areas of McDowell County.
| Approximately 0.6 mile upstream of State Route 1763 | None | +1,142
Pepper Creek | At the confluence with North Fork Catawba River | +1,499 | +1,446 | Unincorporated Areas of McDowell County.
| Approximately 0.6 mile upstream of State Route 1566 | None | +1,674
Rock Creek | At the confluence with Second Broad River | None | +1,290 | Unincorporated Areas of McDowell County.
| At the downstream of State Route 1145 | None | +1,365
Second Broad River | At the McDowell/Rutherford County boundary | None | +990 | Unincorporated Areas of McDowell County.
| Approximately 0.8 mile upstream of State Route 1001 | None | +1,369
Shadrick Creek | At the confluence with Old Catawba River | None | +1,091 | Unincorporated Areas of McDowell County.
| Approximately 2.1 miles upstream of the Railroad | None | +1,194
Shoal Creek | At the confluence with Cane Creek (near Dysartsville) | None | +1,028 | Unincorporated Areas of McDowell County.
| Approximately 1.2 miles upstream of State Route 1775 | None | +1,345
South Fork Tom Creek | At the confluence with Tom Creek | None | +1,457 | Unincorporated Areas of McDowell County.
| Approximately 0.3 mile upstream of the confluence with Tom Creek | None | +1,489
South Muddy Creek | At the confluence with Muddy Creek and North Muddy Creek | None | +1,089 | Unincorporated Areas of McDowell County.
| Approximately 0.7 mile upstream of State Route 1780 | None | +1,331
South Muddy Creek Tributary 1 | At the confluence with South Muddy Creek | None | +1,107 | Unincorporated Areas of McDowell County.
| At the Burke/McDowell County boundary | None | +1,124
South Muddy Creek Tributary 2 | At the confluence with South Muddy Creek | None | +1,123 | Unincorporated Areas of McDowell County.
| Approximately 600 feet upstream of State Route 1767 | None | +1,143
Stanfords Creek | At the confluence with Goose Creek | None | +1,239 | Unincorporated Areas of McDowell County.
| Approximately 2.1 miles upstream of the confluence with Goose Creek | None | +1,346
Swannanoa Creek | At the confluence with Mill Creek | None | +1,603 | Unincorporated Areas of McDowell County.
| Approximately 0.7 mile upstream of the confluence with Mill Creek | None | +1,702
Thompsons Fork | At the confluence with North Muddy Creek | None | +1,101 | Unincorporated Areas of McDowell County.
| Approximately 200 feet downstream of State Route 1747 | None | +1,181
Tom Creek | At the confluence with Catawba River | +1,227 | +1,229 | Unincorporated Areas of McDowell County.
| Approximately 280 feet upstream of State Route 1440 | None | +1,637
Tom Creek Tributary 1 | At the confluence with Tom Creek | None | +1,418 | Unincorporated Areas of McDowell County.
| Approximately 1,300 feet upstream of State Route 1433 | None | +1,488
Walton Crowley Branch | At the confluence with North Muddy Creek | None | +1,119 | Unincorporated Areas of McDowell County.
| Approximately 1,230 feet upstream of State Route 1760 | None | +1,139
West Fork Cove Creek | At the confluence with Cove Creek and Morgan Creek (near Sugar Hill) | None | +1,196 | Unincorporated Areas of McDowell County.
| Approximately 1.3 miles upstream of State Route 1001 | None | +1,259
Youngs Fork | At the confluence with North Muddy Creek | None | +1,205 | Unincorporated Areas of McDowell County, City of Marion.
| Approximately 125 feet downstream of Glenview Street | None | +1,327
* National Geodetic Vertical Datum.
# Depth in feet above ground.
+ North American Vertical Datum.
ADDRESSES
City of Marion
Maps available for inspection at the Marion City Hall, 194 North Main Street, Marion, North Carolina.
Send comments to The Honorable Averett Clark, Mayor of the City of Marion, P.O. Box 700, Marion, North Carolina 28752.
Town of Old Fort
Maps available for inspection at the Old Fort Town Hall, 38 South Catawba Avenue, Old Fort, North Carolina.
Send comments to The Honorable Garland Norton, Mayor of the Town of Old Fort, P.O. Box 520, Old Fort, North Carolina 28762.
Unincorporated Areas of McDowell County
Maps available for inspection at the McDowell County Administration Building, 60 East Court Street, Marion, North Carolina.
Send comments to Mr. Charles Abernathy, McDowell County Manager, 60 East Court Street, Marion, North Carolina 28752.
Northampton County, North Carolina and Incorporated Areas
Black Duck Creek | At the confluence with Lees Creek | None | +66 | Unincorporated Areas of Northampton County, Town of Gaston.
| Approximately 0.7 mile upstream of Cal Floyd Road (State Route 1210) | None | +193
Bridges Creek Tributary 2 | At the confluence with Bridges Creek | +40 | +42 | Unincorporated Areas of Northampton County.
| Approximately 250 feet downstream of Chapel Hill Road | None | +60
Chockoyotte Creek | At the confluence with Roanoke River | +55 | +57 | Unincorporated Areas of Northampton County.
| At the confluence with Roanoke River (the Northampton/Halifax County boundary) | +56 | +59
Devils Branch | At the confluence with Roanoke River | +134 | +135 | Unincorporated Areas of Northampton County.
| Approximately 3.1 miles upstream of the confluence with Roanoke River | None | +196
Gumberry Swamp | At the downstream side of Barrows Mill Road (State Route 1126) | None | +47 | Unincorporated Areas of Northampton County.
| Approximately 300 feet upstream of railroad | None | +124
Lees Creek | At the confluence with Roanoke River | None | +66 | Unincorporated Areas of Northampton County, Town of Gaston.
| Approximately 450 feet downstream of Graysburg Road | None | +85
Lees Creek Tributary 1 | At the confluence with Lees Creek | None | +69 | Unincorporated Areas of Northampton County, Town of Gaston.
| Approximately 250 feet downstream of Graysburg Road | None | +136
Lilly Pond Creek | Approximately 1.1 miles upstream of the confluence with Gumberry Swamp | None | +47 | Unincorporated Areas of Northampton County, Town of Jackson.
| Approximately 1,500 feet upstream of Depot Street | None | +92
Occoneechee Creek | Approximately 4.5 miles upstream of the confluence with Roanoke River | None | +47 | Unincorporated Areas of Northampton County.
| Approximately 1.1 miles upstream of Jackson By-Pass Road (State Route 1311) | None | +109
Occoneechee Creek Tributary 1 | At the confluence with Occoneechee Creek | None | +50 | Unincorporated Areas of Northampton County.
| Approximately 0.9 mile downstream of the confluence with Occoneechee Creek | None | +51
Occoneechee Creek Tributary 2 | At the confluence with Occoneechee Creek | None | +81 | Unincorporated Areas of Northampton County.
| Approximately 2.7 miles upstream of the confluence with Occoneechee Creek | None | +97
Roanoke River | At the Northampton/Bertie/Halifax County boundary | +35 | +34 | Unincorporated Areas of Northampton County, Town of Gaston.
| At the Northampton/Warren County boundary | +204 | +203
Roanoke River Tributary 12 | At the confluence with Roanoke River | +134 | +133 | Unincorporated Areas of Northampton County.
| Approximately 0.5 mile upstream of NC-46 | None | +196
Roanoke River Tributary 12A | At the confluence with Roanoke River Tributary 12 | None | +150 | Unincorporated Areas of Northampton County.
| Approximately 0.4 mile upstream of Dr. Hall Road (State Route 1218) | None | +184
Roanoke River Tributary 14 | At the confluence with Roanoke River | +134 | +133 | Unincorporated Areas of Northampton County.
| Approximately 50 feet downstream of NC-46 | None | +185
Roanoke River Tributary 14A | At the confluence with Roanoke River Tributary 14 | None | +164 | Unincorporated Areas of Northampton County.
| Approximately 0.8 mile upstream of NC-46 | None | +233
Roanoke River Tributary 7 | Approximately 1,500 feet upstream of the confluence with Roanoke River | None | +45 | Unincorporated Areas of Northampton County.
| Approximately 1.7 mile upstream of the confluence with Roanoke River | None | +70
Roanoke River Tributary 8 | At the confluence with Roanoke River | +45 | +46 | Unincorporated Areas of Northampton County.
| Approximately 1.2 miles upstream of the confluence with Roanoke River | None | +69
Sandy River Tributary 3 | At the confluence with Sandy Run | None | +37 | Unincorporated Areas of Northampton County.
| Approximately 0.5 mile upstream of the confluence with Sandy Run | None | +46
Sandy Run | At the confluence with Roanoke River | +35 | +34 | Unincorporated Areas of Northampton County.
| Approximately 0.6 mile upstream of State Highway 308 | None | +60
Sandy Run Tributary 1 | At the confluence with Sandy Run | None | +37 | Unincorporated Areas of Northampton County.
| Approximately 0.7 mile upstream of the confluence with Sandy Run | None | +60
Trouble Field Creek | At the confluence with Roanoke River | +53 | +55 | Unincorporated Areas of Northampton County.
| Approximately 1.8 miles upstream of the confluence with Roanoke River | None | +61
* National Geodetic Vertical Datum.
# Depth in feet above ground.
+ North American Vertical Datum.
ADDRESSES
Town of Gaston
Maps available for inspection at the Gaston Town Hall, 223 Craig Street, Gaston, North Carolina.
Send comments to The Honorable Danny Tolbert, Mayor of the Town of Gaston, P.O. Drawer M, Gaston, North Carolina 27832.
Town of Jackson
Maps available for inspection at the Jackson Town Hall, 100 East Jefferson Street, Jackson, North Carolina.
Send comments to The Honorable John McKellar, Mayor of the Town of Jackson, P.O. Box 614, Jackson, North Carolina 27845
Unincorporated Areas of Northampton County
Maps available for inspection at the Northampton County Office, 108 West Jefferson Street, Jackson, North Carolina.
Send comments to Mr. Wayne Jenkins, Northampton County Manager, P.O. Box 808, Jackson, North Carolina 27845.
Person County, North Carolina and Incorporated Areas
Big Blue Wing Creek | Approximately 1,300 feet downstream of High View Church Road (State Route 1509) | None | +403 | Unincorporated Areas of Person County.
| Approximately 0.7 mile upstream of Tatum Road (State Route 1511) | None | +506
Big Blue Wing Tributary 1 | Approximately 2,000 feet downstream of Wind Dancer Lane | None | +399 | Unincorporated Areas of Person County.
| Approximately 0.4 mile upstream of Epps-Martin Road (State Route 1506) | None | +450
Bowes Branch | At the Virginia/North Carolina State boundary | None | +361 | Unincorporated Areas of Person County.
| Approximately 1,440 feet upstream of Virginia/North Carolina State boundary | None | +368
Bredlov Creek | At the confluence with Big Blue Wing Creek | None | +407 | Unincorporated Areas of Person County.
| Approximately 1,400 feet upstream of the confluence with Big Blue Wing Creek | None | +413
Broachs Mill Creek | At the confluence with South Hyco Creek | None | +433 | Unincorporated Areas of Person County.
| Approximately 0.9 mile upstream of Hester's Store Road (State Route 1162) | None | +515
Castle Creek | At the confluence with Hyco River | None | +360 | Unincorporated Areas of Person County.
| Approximately 790 feet downstream of Shiloh Church Road (State Route 1322) | None | +394
Cattail Branch | At the confluence with Big Blue Wing Creek | None | +428 | Unincorporated Areas of Person County.
| Approximately 1,750 feet upstream of the confluence with Big Blue Wing Creek | None | +437
Cobbs Creek | Approximately 0.8 mile upstream of the confluence with Hyco Lake | None | +413 +414 | Unincorporated Areas of Person County.
| At the Person/Caswell County boundary | None | +510
Ghents Creek | At the confluence with Hyco River | None | +367 | Unincorporated Areas of Person County.
| Approximately 1,400 feet upstream of Edwin Robertson Road (State Route 1322) | None | +387
Hyco River | Approximately 1.4 miles downstream of Railroad | None | +358 | Unincorporated Areas of Person County.
| At the Hyco Dam | None | +380
Hyco River Tributary 1 | At the confluence with Hyco River | None | +380 | Unincorporated Areas of Person County.
| Approximately 600 feet upstream of the confluence with Hyco River | None | +380
Marlowes Creek | At the upstream side of Cavel Chub Lake Road | +470 | +469 | Unincorporated Areas of Person County, City of Roxboro.
| Approximately 860 feet upstream of Depot Street | +617 | +610
Marlowes Creek Tributary 1 | At the confluence with Marlowes Creek | +470 | +469 | Unincorporated Areas of Person County.
| Approximately 840 feet upstream of Chub Lake Road (State Route 1337) | None | +680
Marlowes Creek Tributary 1A | At the confluence with Marlowes Creek Tributary 1 | None | +464 | Unincorporated Areas of Person County.
| Approximately 0.5 mile upstream of Chub Lake Road (State Route 1337) | None | +656
Marlowes Creek Tributary 2 | At the confluence with Marlowes Creek | +554 | +552 | Unincorporated Areas of Person County, City of Roxboro.
| Approximately 0.5 mile upstream of Broad Road (State Route 1534) | None | +617
Mayo Creek | Approximately 740 feet downstream of Mayo Lake Road (State Route 1501) | None | +349 | Unincorporated Areas of Person County.
| Approximately 0.8 mile upstream of Denny's Store Road (State Route 1536) | None | +511
Mayo Creek Tributary 14 | At the confluence with Mayo Creek | None | +444 | Unincorporated Areas of Person County.
| Approximately 1,300 feet upstream of the confluence with Mayo Creek | None | +444
Mayo Creek Tributary 15 | At the confluence with Mayo Creek | None | +450 | Unincorporated Areas of Person County.
| Approximately 0.5 mile upstream of the confluence with Mayo Creek | None | +475
Mill Creek | Approximately 400 feet downstream of Street's Store Road (State Route 1519) | +444 | +445 | Unincorporated Areas of Person County.
| Approximately 530 feet upstream of Todd Road (State Route 1547) | None | +559
Powells Creek | At the confluence with Hyco River | None | +367 | Unincorporated Areas of Person County.
| Approximately 0.7 mile upstream of the confluence with Hyco River | None | +367
Satterfield Creek | At the confluence with Storys Creek | None | +489 | Unincorporated Areas of Person County.
| Approximately 1.2 miles upstream of City Lala Road (State Route 1836) | None | +491
South Hyco Creek | At the upstream side of Brewer Road (State Route 1343) | None | +415 | Unincorporated Areas of Person County.
| Approximately 1.0 mile upstream of State Highway 49 | None | +543
South Hyco Creek Tributary 2 | At the confluence with South Hyco Creek | None | +516 | Unincorporated Areas of Person County.
| Approximately 1,900 feet upstream of the confluence with South Hyco Creek | None | +553
South Hyco Creek Tributary 8 | At the confluence with South Hyco Creek | None | +540 | Unincorporated Areas of Person County.
| Approximately 400 feet upstream of Jones Road (State Route 1100) | None | +602
Storys Creek | At the confluence with Hyco River | None | +366 | Unincorporated Areas of Person County.
| Approximately 0.6 mile upstream of City Lake Road (State Route 1336) | None | +489
Tanyard Branch | At the downstream side of Railroad | +569 | +570 | City of Roxboro.
| Approximately 1,300 feet upstream of North Morgan Street | None | +658
* National Geodetic Vertical Datum.
# Depth in feet above ground.
+ North American Vertical Datum.
ADDRESSES
City of Roxboro
Maps available for inspection at the Roxboro City Planning Department, 105 South Lamar Street, Roxboro, North Carolina.
Send comments to The Honorable Steve Joyner, Mayor of the City of Roxboro, P.O. Box 128, Roxboro, North Carolina 27573.
Unincorporated Areas of Person County
Maps available for inspection at the Person County Planning and Zoning Department, 20A Court Street, Roxboro, North Carolina.
Send comments to Mr. Steve Carpenter, Person County Manager, 304 South Morgan Street, Room 212, Roxboro, North Carolina 27573.
Union County, North Carolina and Incorporated Areas
Bates Branch | At the confluence with East Fork Twelvemile Creek | +525 | +526 | Unincorporated Areas of Union County, Town of Mineral Springs.
| Approximately 150 feet downstream of McNeely Road | None | +603
Blue Branch | At the confluence with Cane Creek | None | +510 | Unincorporated Areas of Union County.
| Approximately 0.4 mile upstream of Bud Huey Road (State Route 115) | None | +549
Blythe Creek | At the confluence with East Fork Twelvemile Creek | +511 | +510 | Unincorporated Areas of Union County, Town of Waxhaw.
| Approximately 1.0 mile upstream of Waxhaw Highway | None | +607
Blythe Creek Tributary | At the confluence with Blythe Creek | None | +554 | Unincorporated Areas of Union County.
| Approximately 0.4 mile upstream of the confluence with Blythe Creek | None | +564
Booger Branch | At the confluence with Cane Creek | None | +514 | Unincorporated Areas of Union County.
| Approximately 0.7 mile upstream of the confluence with Booger Branch Tributary 2 | None | +577
Booger Branch Tributary 1 | At the confluence with Booger Branch | None | +514 | Unincorporated Areas of Union County.
| Approximately 0.8 mile upstream of Bud Huey Road (State Route 1115) | None | +561
Booger Branch Tributary 2 | At the confluence with Booger Branch | None | +550 | Unincorporated Areas of Union County.
| Approximately 1.4 miles upstream of the confluence with Booger Branch | None | +611
Cane Creek | Approximately 300 feet downstream of the Lancaster County, South Carolina/Union County, North Carolina State boundary | None | +502 | Unincorporated Areas of Union County.
| Approximately 250 feet upstream of Rocky River Road (State Route 522) | None | +647
Cane Creek Tributary 1 | At the confluence with Cane Creek | None | +562 | Unincorporated Areas of Union County.
| Approximately 1.1 miles upstream of Cane Creek Road (State Route 1221) | None | +612
Cane Creek Tributary 2 | At the confluence with Cane Creek | None | +580 | Unincorporated Areas of Union County.
| Approximately 0.6 mile upstream of the confluence with Cane Creek | None | +607
Cane Creek Tributary 3 | At the confluence with Cane Creek | None | +586 | Unincorporated Areas of Union County.
| Approximately 0.6 mile upstream of the confluence with Cane Creek | None | +604
Cowhorn Branch | At the confluence with Tarkill Branch | None | +552 | Unincorporated Areas of Union County, Village of Marvin.
| Approximately 0.4 mile upstream of Waxhaw Marvin Road (State Route 1307) | None | +572
Culvert Branch | Approximately 700 feet upstream of the confluence with West Fork Twelvemile Creek | +557 | +558 | Unincorporated Areas of Union County.
| Approximately 1,000 feet upstream of Timber Lane | None | +647
Davis Branch | At the confluence with Waxhaw Creek | None | +512 | Unincorporated Areas of Union County.
| Approximately 1.5 miles upstream of the confluence with Davis Branch Tributary 1 | None | +584
Davis Branch Tributary 1 | At the confluence with Davis Branch | None | +535 | Unincorporated Areas of Union County.
| Approximately 1.5 miles upstream of the confluence with Davis Branch | None | +614
Davis Mine Creek | Approximately 120 feet downstream of Waxhaw-Indian Trail Road | None | +601 | Unincorporated Areas of Union County, Village of Wesley Chapel, Town of Indian Trail, Town of Stallings, Town of Weddington.
| Approximately 650 feet upstream of Lakewood Drive | None | +722
Davis Mine Creek Tributary 1 | At the confluence with Davis Mine Creek | None | +649 | Town of Indian Trail.
| Approximately 1,500 feet upstream of McLendon Road | None | +682
East Fork Twelvemile Creek | Approximately 0.9 mile upstream of the confluence with Twelvemile Creek and West Fork Twelvemile Creek | +512 | +511 | Unincorporated Areas of Union County, Village of Wesley Chapel, Town of Indian Trail, Town of Mineral Springs, Town of Waxhaw.
| Approximately 1,710 feet upstream of Grayson Parkway | None | +621
East Fork Twelvemile Creek Tributary 1 | At the confluence with East Fork Twelvemile Creek | +521 | +520 | Unincorporated Areas of Union County, Village of Wesley Chapel.
| Approximately 735 feet upstream of Farm Creek Road | None | +560
East Fork Twelvemile Creek Tributary 2 | At the confluence with East Fork Twelvemile Creek | +524 | +522 | Unincorporated Areas of Union County, Village of Wesley Chapel.
| Approximately 1.1 miles upstream of the confluence with East Fork Twelvemile Creek | None | +545
East Fork Twelvemile Creek Tributary 3 | At the confluence with East Fork Twelvemile Creek | None | +562 | Unincorporated Areas of Union County, City of Monroe, Village of Wesley Chapel.
| Approximately 1,300 feet upstream of Sanford Lane (State Route 1394) | None | +650
East Fork Twelvemile Creek Tributary 4 | At the confluence with East Fork Twelvemile Creek | None | +583 | Unincorporated Areas of Union County, Village of Wesley Chapel, Town of Indian Trail.
| Approximately 1.2 miles upstream of Mayflower Trail | None | +620
East Fork Twelvemile Creek Tributary 5 | At the confluence with East Fork Twelvemile Creek | None | +597 | Unincorporated Areas of Union County, City of Monroe, Town of Indian Trail.
| Approximately 725 feet downstream of Capital Drive | None | +639
East Fork Twelvemile Creek Tributary 6 | At the confluence with East Fork Twelvemile Creek | None | +610 | Unincorporated Areas of Union County, Town of Indian Trail.
| Approximately 0.5 mile upstream of the confluence with East Fork Twelvemile Creek | None | +629
Glen Branch | At the confluence with Waxhaw Creek | None | +592 | Unincorporated Areas of Union County.
| Approximately 0.6 mile upstream of Nesbit Road (State Route 1131) | None | +633
Keener Branch | At the confluence with Waxhaw Creek | None | +513 | Unincorporated Areas of Union County.
| Approximately 0.9 mile upstream of Farmbrook Drive (State Route 1271) | None | +539
Lee Branch | At the confluence with Bates Branch | None | +541 | Town of Mineral Springs.
| Approximately 375 feet downstream of Waxhaw-Monroe Road (State Route 111) | None | +618
Lee Branch Tributary 1 | At the confluence with Lee Branch | None | +603 | Town of Mineral Springs.
| Approximately 0.5 mile upstream of the confluence with Lee Branch | None | +625
Lee Branch Tributary 1A | At the confluence with Lee Branch Tributary 1 | None | +603 | Town of Mineral Springs.
| Approximately 1,250 feet upstream of the confluence with Lee Branch Tributary 1 | None | +617
Little Twelvemile Creek | Approximately 50 feet downstream of Potter Road (State Route 1162) | None | +553 | Unincorporated Areas of Union County, Town of Mineral Springs.
| Approximately 0.9 mile upstream of Crow Road | None | +635
Little Twelvemile Creek Tributary 1 | At the confluence with Little Twelvemile Creek | None | +563 | Unincorporated Areas of Union County.
| Approximately 925 feet upstream of Porter Drive (State Route 2552) | None | +600
Little Twelvemile Creek Tributary 2 | At the confluence with Little Twelvemile Creek | None | +588 | Unincorporated Areas of Union County, Town of Mineral Springs.
| Approximately 1,500 feet upstream of Old Waxhaw-Monroe Road (State Route 1149) | None | +626
Machine Branch | At the confluence with East Fork Twelvemile Creek | +516 | +517 | Unincorporated Areas of Union County.
| Approximately 780 feet downstream of Waxhaw-Indian Trail Road (State Route 1008) | None | +573
Marvin Branch | At the confluence with Sixmile Creek | +572 | +577 | Village of Marvin.
| Approximately 1,150 feet upstream of Saddle Avenue | None | +605
McBride Branch | At the confluence with Sixmile Creek | +580 | +583 | Unincorporated Areas of Union County, Village of Marvin.
| Approximately 385 feet upstream of Kentucky Derby Drive (State Route 3248) | None | +652
McBride Branch Tributary 1 | At the confluence with McBride Branch | None | +601 | Unincorporated Areas of Union County.
| Approximately 950 feet upstream of Beckford Glen Drive (State Route 2679) | None | +624
McNeely Branch | At the confluence with Blythe Creek | None | +571 | Unincorporated Areas of Union County, Town of Waxhaw.
| Approximately 1.6 miles upstream of Waxhaw Highway | None | +616
Missouri Branch | At the confluence with Davis Branch | None | +533 | Unincorporated Areas of Union County.
| Approximately 0.6 mile upstream of Shady Oak Drive | None | +599
Molly Branch | At the confluence with East Fork Twelvemile Creek | +547 | +549 | Unincorporated Areas of Union County.
| Approximately 30 feet downstream of Willoughby Road (State Route 1334) | None | +613
Mundys Run | At the confluence with West Fork Twelvemile Creek | +533 | +535 | Unincorporated Areas of Union County, Town of Weddington.
| Approximately 0.5 mile upstream of the confluence of Mundys Run Tributary 3 | None | +635
Mundys Run Tributary 1 | At the confluence with Mundys Run | None | +568 | Unincorporated Areas of Union County, Town of Weddington.
| Approximately 1,130 feet upstream of Skytop Road | None | +613
Mundys Run Tributary 2 | At the confluence with Mundys Run | None | +573 | Unincorporated Areas of Union County, Town of Weddington.
| Approximately 0.8 mile upstream of the confluence with Mundys Run | None | +605
Mundys Run Tributary 3 | At the confluence with Mundys Run | None | +614 | Town of Weddington.
| Approximately 1,460 feet upstream of Weddington Road | None | +638
Price Mill Creek | Approximately 450 feet upstream of the confluence of Davis Mine Creek | None | +592 | Unincorporated Areas of Union County, Town of Indian Trail.
| Approximately 650 feet upstream of Kennerly Drive | None | +650
Price Mill Creek Tributary 1 | At the confluence with Price Mill Creek | None | +599 | Unincorporated Areas of Union County, Town of Indian Trail.
| Approximately 100 feet upstream of Old Charlotte Highway | None | +646
Price Mill Creek Tributary 2 | At the confluence with Price Mill Creek | None | +633 | Town of Indian Trail.
| Approximately 1,400 feet upstream of the confluence with Price Mill Creek | None | +646
Robin Branch | At the confluence with Booger Branch | None | +522 | Unincorporated Areas of Union County.
| Approximately 500 feet upstream of Shaw Avenue | None | +568
Rone Branch | Approximately 200 feet downstream of the Lancaster County, South Carolina/Union County, North Carolina, State boundary | None | +507 | Unincorporated Areas of Union County.
| Approximately 0.6 mile upstream of Rehobeth Road (State Route 1107) | None | +591
Rone Branch Tributary 1 | At the confluence with Rone Branch | None | +515 | Unincorporated Areas of Union County.
| Approximately 0.3 mile upstream of the confluence with Rone Branch | None | +560
Simpson Branch | Approximately 500 feet upstream of the confluence with Cane Creek | None | +502 | Unincorporated Areas of Union County.
| Approximately 250 feet downstream of Huey Drive | None | +518
Sixmile Creek | Approximately 200 feet upstream of the Lancaster County, South Carolina/Mecklenburg and Union County, North Carolina, State boundary | +570 | +575 | Unincorporated Areas of Union County, Town of Weddington, Village of Marvin.
| Approximately 500 feet upstream of the Mecklenburg/Union County boundary | +625 | +626
Sixmile Creek Tributary 1 | At the confluence with Sixmile Creek | +577 | +579 | Unincorporated Areas of Union County, Village of Marvin.
| Approximately 920 feet upstream of Marvin Weddington Road (State Route 1316) | None | +630
Sixmile Creek Tributary 2 | Approximately 700 feet upstream of the confluence with Sixmile Creek | +580 | +601 | Unincorporated Areas of Union County.
| Approximately 1.2 miles upstream of the confluence with Sixmile Creek | None | +633
Stewart Branch | At the confluence with Cane Creek Tributary 1 | None | +562 | Unincorporated Areas of Union County.
| Approximately 1,125 feet upstream of the Dam | None | +661
Stewart Branch Tributary 1 | At the confluence with Stewart Branch | None | +562 | Unincorporated Areas of Union County.
| Approximately 250 feet downstream of Tom Green Road | None | +607
Tarkill Branch | At the Lancaster County, South Carolina/Union County, North Carolina, State boundary | None | +545 | Unincorporated Areas of Union County, Town of Weddington, Village of Marvin.
| Approximately 1.4 miles upstream of New Town Road | None | +644
Twelvemile Creek Tributary 1 | Approximately 500 feet upstream of the confluence with Twelvemile Creek | None | +502 | Unincorporated Areas of Union County, Town of Waxhaw.
| Approximately 0.5 mile upstream of Fox Hound Lane | None | +537
Twelvemile Creek Tributary 2 | Approximately 800 feet upstream of the confluence with Twelvemile Creek | None | +504 | Unincorporated Areas of Union County, Town of Waxhaw.
| Approximately 0.8 mile upstream of the confluence with Twelvemile Creek | None | +523
Twelvemile Creek Tributary 3 | Approximately 1,600 feet upstream of the confluence with Twelvemile Creek | None | +507 | Unincorporated Areas of Union County, Town of Waxhaw, Village of Marvin.
| Approximately 0.5 mile upstream of Rainbow Drive | None | +558
Twelvemile Creek Tributary 4 | Approximately 1,600 feet upstream of the confluence with Twelvemile Creek | +507 | +508 | Unincorporated Areas of Union County, Town of Waxhaw.
| Approximately 300 feet upstream of Waxhaw Parkway | None | +574
Underwood Creek | Approximately 1,500 feet upstream of the confluence with Little Twelvemile Creek | None | +547 | Unincorporated Areas of Union County.
| Approximately 0.8 mile upstream of New Town Road | None | +619
Waxhaw Creek | Approximately 1,650 feet downstream of Maggie Robinson Road (State Route 1103) | None | +487 | Unincorporated Areas of Union County.
| Approximately 100 feet downstream of Lancaster Highway/State Highway 200 | None | +609
Waxhaw Creek Tributary 1 | At the confluence with Waxhaw Creek | None | +491 | Unincorporated Areas of Union County.
| Approximately 0.7 mile upstream of Mini-Ranch Road (State Route 1102) | None | +526
Waxhaw Creek Tributary 2 | At the confluence with Waxhaw Creek | None | +499 | Unincorporated Areas of Union County.
| Approximately 2.8 miles upstream of the confluence with Waxhaw Creek | None | +705
Waxhaw Creek Tributary 3 | At the confluence with Waxhaw Creek | None | +516 | Unincorporated Areas of Union County.
| Approximately 0.6 mile upstream of Winslow Drive | None | +539
Waxhaw Creek Tributary 4 | At the confluence with Waxhaw Creek | None | +555 | Unincorporated Areas of Union County.
| Approximately 1.4 miles upstream of Morrison Avenue | None | +616
Waxhaw Creek Tributary 5 | At the confluence with Waxhaw Creek | None | +559 | Unincorporated Areas of Union County.
| Approximately 0.7 mile upstream of the confluence with Waxhaw Creek | None | +597
Waxhaw Creek Tributary 6 | At the confluence with Waxhaw Creek | None | +560 | Unincorporated Areas of Union County.
| Approximately 0.7 mile upstream of the confluence with Waxhaw Creek | None | +583
Waxhaw Creek Tributary 7 | At the confluence with Waxhaw Creek | None | +565 | Unincorporated Areas of Union County.
| Approximately 1,750 feet upstream of the Dam | None | +658
Waxhaw Creek Tributary 7A | At the confluence with Waxhaw Creek Tributary 7 | None | +578 | Unincorporated Areas of Union County.
| Approximately 0.4 mile upstream of Nesbit Road (State Route 1131) | None | +609
Waxhaw Creek Tributary 7B | At the confluence with Waxhaw Creek Tributary 7 | None | +583 | Unincorporated Areas of Union County.
| Approximately 0.6 mile upstream of the confluence with Waxhaw Creek Tributary 7 | None | +610
Waxhaw Creek Tributary 7C | At the confluence with Waxhaw Creek Tributary 7 | None | +591 | Unincorporated Areas of Union County, Town of Waxhaw.
| Approximately 0.5 mile upstream of Parkwood School Road | None | +613
West Fork Twelvemile Creek | At the upstream side of Cuthbertson Road (State Route 1321) | +512 | +514 | Unincorporated Areas of Union County, Village of Wesley Chapel, Town of Indian Trail, Town of Stallings, Town of Waxhaw, Town of Weddington.
| Approximately 1,070 feet upstream of the confluence of West Fork Twelvemile Creek Tributary 4 | None | +680
West Fork Twelvemile Creek Tributary 1 | At the confluence with West Fork Twelvemile Creek | +525 | +526 | Unincorporated Areas of Union County, Town of Waxhaw, Town of Weddington.
| Approximately 0.4 mile upstream of New Town Road (State Route 1315) | None | +634
West Fork Twelvemile Creek Tributary 1A | At the confluence with West Fork Twelvemile Creek Tributary 1 | None | +536 | Unincorporated Areas of Union County, Town of Waxhaw.
| Approximately 0.8 mile upstream of the confluence with West Fork Twelvemile Creek Tributary 1 | None | +576
West Fork Twelvemile Creek Tributary 2 | At the confluence with West Fork Twelvemile Creek | +582 | +587 | Unincorporated Areas of Union County, Town of Weddington.
| Approximately 700 feet upstream of the Dam | None | +681
West Fork Twelvemile Creek Tributary 2A | At the confluence with West Fork Twelvemile Creek Tributary 2 | None | +638 | Town of Weddington.
| Approximately 1,790 feet upstream of the confluence with West Fork Twelvemile Creek Tributary 2 | None | +653
West Fork Twelvemile Creek Tributary 2B | At the confluence with West Fork Twelvemile Creek Tributary 2 | None | +661 | Town of Weddington.
| Approximately 960 feet upstream of the confluence with West Fork Twelvemile Creek Tributary 2 | None | +673
West Fork Twelvemile Creek Tributary 3 | At the confluence with West Fork Twelvemile Creek | None | +657 | Unincorporated Areas of Union County, Town of Indian Trail, Town of Stallings.
| Approximately 520 feet upstream of Fairforest Drive | None | +684
West Fork Twelvemile Creek Tributary 4 | At the confluence with West Fork Twelvemile Creek | None | +672 | Unincorporated Areas of Union County, Town of Indian Trail, Town of Stallings.
| At the Mecklenburg/Union County boundary | None | +690
* National Geodetic Vertical Datum.
# Depth in feet above ground.
+ North American Vertical Datum.
ADDRESSES
Town of Indian Trail
Maps available for inspection at the Indian Trail Planning Department, 109 Navejo Trail Road, Indian Trail, North Carolina.
Send comments to The Honorable Sandy Moore, Mayor of the Town of Indian Trail, 4900 Pioneer Lane, Indian Trail, North Carolina 28079.
Village of Marvin
Maps available for inspection at the Marvin Village Hall, 10004 New Town Road, Marvin, North Carolina.
Send comments to The Honorable Mike Cognac, Mayor of the Village of Marvin, P.O. Box 399, Waxhaw, North Carolina 28177.
Town of Mineral Springs
Maps available for inspection at the Town of Mineral Springs Volunteer Fire and Rescue Department, 5804 Waxhaw Highway, Mineral Springs, North Carolina.
Send comments to The Honorable Rick Becker, Mayor of the Town of Mineral Springs, 6603 Sadler Road, Waxhaw, North Carolina 28173.
City of Monroe
Maps available for inspection at the City of Monroe Planning Department, 300 West Crowell Street, Monroe, North Carolina.
Send comments to The Honorable Bobby Kilgore, Mayor of the City of Monroe, 300 West Crowell Street, Monroe, North Carolina 28112.
Town of Stallings
Maps available for inspection at the Stallings Town Hall, 315 Stallings Road, Stallings, North Carolina.
Send comments to The Honorable Lynda Paxton, Mayor of the Town of Stallings, 112 Eaglecrest Drive, Stallings, North Carolina 28104.
Unincorporated Areas of Union County
Maps available for inspection at the Union County Planning Department, 407 North Main Street, Room 149, Monroe, North Carolina.
Send comments to Mr. Mike Shalati, Union County Manager, 500 North Main Street, Room 925, Monroe, North Carolina 28112.
Town of Waxhaw
Maps available for inspection at the Waxhaw Town Hall, 317 North Broom Street, Waxhaw, North Carolina.
Send comments to The Honorable Gary Underwood, Mayor of the Town of Waxhaw, P.O. Box 6, Waxhaw, North Carolina 28173.
Town of Weddington
Maps available for inspection at the Weddington Town Hall, 1924 Weddington Road, Weddington, North Carolina.
Send comments to The Honorable Nancy Anderson, Mayor of the Town of Weddington, 1924 Weddington Road, Weddington, North Carolina 28104.
Village of Wesley Chapel
Maps available for inspection at the Village of Wesley Chapel Town Hall, 1101 A Airport Road, Monroe, North Carolina.
Send comments to The Honorable Tracy Clinton, Mayor of the Village of Wesley Chapel, 1505 Golden Rain, Wesley Chapel, North Carolina 28104.

(Catalog of Federal Domestic Assistance No. 83.100, “Flood Insurance.”)

Dated: October 4, 2006.
David I. Maurstad,
Director, Mitigation Division, Federal Emergency Management Agency, Department of Homeland Security.

[FR Doc. E6-18328 Filed 10-31-06; 8:45 am]

BILLING CODE 9110-12-P